DEPARTMENT OF TRANSPORTATION

National Highway Traffic Safety Administration

[Docket No. NHTSA-2012-0106; Notice 2]

General Motors, LLC, Grant of Petition for Decision of Inconsequential Noncompliance

AGENCY: National Highway Traffic Safety Administration (NHTSA), Department of Transportation (DOT).

ACTION: Grant of Petition.

SUMMARY: General Motors, LLC (GM), has determined that certain model year 2012 Chevrolet Captiva and Buick Verano passenger cars manufactured between April 6, 2011 and June 4, 2011, do not fully comply with paragraph S5.2.1 of Federal Motor Vehicle Safety Standard (FMVSS) No. 101, Controls and Displays and paragraph S5.5.5 of FMVSS No. 135, Light Vehicle Brake Systems. GM has filed an appropriate report dated June 13, 2012 pursuant to 49 CFR Part 573, Defect and Noncompliance Responsibility and Reports.

ADDRESSES: For further information on this decision contact Stuart Seigel, Office of Vehicle Safety Compliance, the National Highway Traffic Safety Administration (NHTSA), telephone (202) 366-5287, facsimile (202) 366-7002.

SUPPLEMENTARY INFORMATION: I. GM's Petition: Pursuant to 49 U.S.C. 30118(d) and 30120(h) (see implementing rule at 49 CFR Part 556), GM has petitioned for an exemption from the notification and remedy requirements of 49 U.S.C. Chapter 301 on the basis that this noncompliance is inconsequential to motor vehicle safety.

Notice of receipt of the petition was published, with a 30-day public comment period, on November 5, 2012 in the Federal Register (77 FR 66501). No comments were received. To view the petition, and all supporting documents log onto the Federal Docket Management System (FDMS) Web site at: http://www.regulations.gov/. Then follow the online search instructions to locate docket number “NHTSA-2012-0106.”

II. Vehicles Involved: Affected are approximately 47,822 model year 2012 Chevrolet Captiva and Buick Verano model passenger cars that were manufactured between April 6, 2011 and June 4, 2011.

III. Noncompliance: GM explains that the noncompliance is that the telltales used for Park Brake are displayed using International Organization for Standardization (ISO) symbols instead of the telltale symbols required by FMVSS Nos. 101 and 135.

IV. Rule Text: Paragraph S5.2.1 of FMVSS No. 101 Specifically states in pertinent part:

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table 2. . . .

Paragraph S5.5.5 of FMVSS No. 135 requires in pertinent part:

S5.5.5. Labeling. (a) Each visual indicator shall display a word or words in accordance with the requirements of Standard No. 101 (49 CFR 571.101) and this section, which shall be legible to the driver under all daytime and nighttime conditions when activated. Unless otherwise specified, the words shall have letters not less than 3.2 mm (⅛ inch) high and the letters and background shall be of contrasting colors, one of which is red. Words or symbols in addition to those required by Standard No. 101 and this section may be provided for purposes of Clarity. . . .

(d) If separate indicators are used for one or more of the the conditions described in S5.5.1(a) through S5.5.1(g), the indicators shall display the following wording:

. . .

(4) If a separate indicator is provided for application of the parking brake as specified for S5.5.1(c), the single word “Park” of the words “Parking Brake” may be used. . . .

V. Summary of GM's Analyses: GM stated its belief that although the instrument cluster telltale symbols are displayed using ISO symbols the noncompliance is inconsequential to motor vehicle safety for the following reasons:

(1) The functionality of all braking systems, including the service brakes and parking brakes, is not affected by the noncompliance and the vehicles will operate as intended.

(2) In addition to the parking brake telltale, the Captiva Driver Information Center (DIC) provides a message when the parking brake is set. Specifically, when the parking brake is applied and the ISO parking brake telltale is illuminated, the following message is also displayed: “Park Brake Set”

(3) In the noncompliant vehicles, the electronic parking brake automatically releases when the vehicle transmission is in drive and the vehicle is driven away.

(4) The description of the parking braking operation, found in the owner's manual, clearly indicates the ISO parking brake symbol will be displayed when the parking brake is applied.

(5) The control, which applies and releases the parking brake on the subject vehicles, is identified with the same ISO symbol that is used on the telltale to indicate the parking brake is applied.

(6) Other current and previous vehicles manufactured by GM and other manufacturers use the ISO parking brake symbol in conjunction with the word “PARK”, or a common brake telltale incorporating the subject park brake symbol in conjunction with the word “BRAKE” and the ISO symbol for brake malfunction, to indicate the application of the parking brake. GM has also, confirmed that the Parking Brake ISO telltale, in conjunction with the brake malfunction telltale and word “BRAKE”, has been used on other vehicles and thus the motoring public has come to associate the ISO park brake symbol with the application of the parking brake.

(7) GM is unaware of any field or owner complaints or injuries regarding the subject noncompliance.

In summation, GM believes that the described noncompliance of its vehicles is inconsequential to motor vehicle safety, and that its petition, to exempt it from providing recall notification of noncompliance as required by 49 U.S.C. 30118 and remedying the recall noncompliance as required by 49 U.S.C. 30120 should be granted.

VI. NHTSA Decision: NHTSA has reviewed GM's analyses that the subject noncompliance is inconsequential to motor vehicle safety. Specifically, the telltale used for Park Brake, displayed using International Organization for Standardization (ISO) symbol instead of the telltale symbols required by FMVSS Nos. 101 and 135, poses little if any risk to motor vehicle safety.

NHTSA agrees with GM's statement that the parking brake telltale ISO symbol has no effect on brake performance. Vehicle stopping distance and thus collision avoidance is not compromised due to the mislabeling. When the parking brake is activated the ISO symbol is illuminated as required with the letters and background in contrasting colors, one of which is red for both models, and for the Captiva, redundant driver notification is also provided in the information center with the text “Park Brake Set”. In addition, the ISO symbol incorporates the capital letter “P” which is part of the required word “Park” and the ISO symbol has been used on US-certified vehicles for many years in conjunction with the required text. Thus, over time, the ISO symbol has evolved to become increasingly recognizable and understandable to drivers. The brake apply switch located in the center console is identified with the same ISO parking brake symbol as the mislabeled dash telltale. Each time the driver activates the parking brake he/she will visually be reminded of the meaning of the ISO symbol. The parking brake control and the representative ISO symbol are operationally linked. Further, the meaning of the ISO symbol is described in the owner's manuals of both models.

NHTSA believes that the combination of the red contrasting color of the ISO symbol, the message center for the Captiva, the letter “P” in the ISO symbol, common ISO symbol usage, the electric brake apply switch marked with the ISO symbol, and the owner's manual description, will be sufficient to adequately warn the driver when the parking brake is set. Also, because the parking brake automatically releases as the vehicle transmission is shifted to drive and the vehicle is driven away, any possibility of vehicle control and drivability issues due to brake drag are eliminated. NHTSA has not received any consumer complaints regarding the subject vehicles.

In consideration of the foregoing, NHTSA has decided that GM has met its burden of persuasion that the noncompliance with FMVSS Nos. 101 and 135 is inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8).

Claude H. Harris,
Director, Office of Vehicle Safety Compliance.

[FR Doc. 2014-03210 Filed 2-13-14; 8:45 am]

BILLING CODE 4910-59-P